NATIONAL FOUNDATION ON THE ARTS AND THE HUMANITIES

Meeting of the National Museum Services Board

AGENCY: Institute of Museum and Library Services.

ACTION: Notice of meeting.

SUMMARY: This notice sets forth the agenda of a forthcoming meeting of the National Museum Services Board. This notice also describes the function of the board. Notice of this meeting is required under the Sunshine in Government Act and regulations of the Institute of Museum and Library Services, 45 CFR 1180.84.

Time/Date: 9 a.m.-12 p.m. on Thursday, January 30, 2003.

Status: Open.

ADDRESSES: The JW Marriott Hotel, Salon J and K, 1331 Pennsylvania Avenue, NW., Washington, DC, (202) 393-2000.

FOR FURTHER INFORMATION CONTACT: Elizabeth Lyons, Special Assistant to the Director, Institute of Museum and Library Services, 1100 Pennsylvania Avenue, NW., Room 510, Washington, DC 20506, (202) 606-4649.

SUPPLEMENTARY INFORMATION: The National Museum Services Board is established under the Museum Services Act, Title II of the Arts, Humanities, and Cultural Affairs Act of 1976, Public Law 94-462. The Board has responsibility for the general policies with respect to the powers, duties, and authorities vested in the Institute under the Museum Services Act.

The meeting on Thursday, January 30, 2003 will be open to the public. If you need special accommodations due to a disability, please contact: Institute of Museum and Library Services, 1100 Pennsylvania Avenue, NW., Washington, DC 20506-(202) 606-8536-TDD (202) 606-8636 at least seven (7) days prior to the meeting date.

Agenda

86th Meeting of the National Museum Services Board in Salon J and K of The JW Marriott Hotel, 1331 Pennsylvania Avenue, NW., Washington, DC, on Thursday, January 30, 2003.

9 am-12 pm

I. Chairperson's Welcome

II. Approval of Minutes from the 85th NMSB Meeting

III. Director's Welcome and Remarks

IV. Overview of the President's Committee on the Arts and Humanities, Henry Moran, Executive Director

V. Staff Updates

VI. 21st Century Learner Dialogue

(a) Presentation, Beverly Sheppard, President of Oil Sturbridge Village

(b) Service Organization Response, Ed Able, President and CEO, American Association of Museums Janet Rice Elman, Executive Director, Association of Children's Museums

VII. Status of Museum/School Partnership

VIII. Board Discussion

IX. Closing Remarks

Dated: January 23, 2003.
Teresa LaHaie,
Administration Officer, National Foundation on the Arts and Humanities, Institute of Museum and Library Services.

[FR Doc. 03-2011 Filed 1-24-03; 11:17 am]

BILLING CODE 7036-01-M